DEPARTMENT OF HEALTH AND HUMAN SERVICES

National Institutes of Health

National Cancer Institute Amended; Notice of Meeting

Notice is hereby given of a change in the meeting of the National Cancer Institute Special Emphasis Panel, March 26, 2020, 5:00 p.m. to March 27, 2020, 4:00 p.m., Marriott Bethesda North Hotel & Conference Hotel, 5701 Marinelli Rd., Rockville, MD 20850 which was published in the Federal Register on December 16, 2019, 84 FR 68465.

This meeting notice is amended to change the meeting times. The meeting will now be held from March 26, 2020, 8:00 a.m. to March 27, 2020, 7:00 p.m. at the Marriott Bethesda North Hotel & Conference Center, 5701 Marinelli Rd., Rockville, MD 20850. The meeting is closed to the public.

Dated: January 27, 2020.
Melanie J. Pantoja,
Program Analyst, Office of Federal Advisory Committee Policy.

[FR Doc. 2020-01736 Filed 1-29-20; 8:45 am]

BILLING CODE 4140-01-P